DEPARTMENT OF TRANSPORTATION

Federal Aviation Administration

14 CFR Part 39

[Docket No. FAA-2014-0011; Directorate Identifier 2013-NM-046-AD]

RIN 2120-AA64

Airworthiness Directives; Airbus Airplanes

AGENCY: Federal Aviation Administration (FAA), DOT.

ACTION: Notice of proposed rulemaking (NPRM).

SUMMARY: We propose to supersede Airworthiness Directive (AD) 98-13-23, which applies to certain Airbus Model A300 B4-600, B4-600R, and F4-600R series airplanes, and Model A300 C4-605R Variant F airplanes (collectively called Model A300-600 series airplanes). AD 98-13-23 requires inspections to detect corrosion and cracking of the lower horizontal stabilizer cutout longeron, the corner fitting, the skin strap, and the outer skin; and repair, if necessary. Since we issued AD 98-13-23, we have determined that the risk of cracking is higher than initially determined. This proposed AD would reduce the compliance times and repetitive intervals, and changes the inspection procedures. We are proposing this AD to prevent cracking of the lower horizontal stabilizer cutout longeron, the corner fitting, the skin strap, and the outer skin, which could result in reduced structural integrity of the horizontal-stabilizer cutout longeron.

DATES: We must receive comments on this proposed AD by March 27, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0011; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2014-0011; Directorate Identifier 2013-NM-046-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 15, 1998, we issued AD 98-13-23, Amendment 39-10614 (63 FR 34576, June 25, 1998). That AD requires actions intended to address an unsafe condition on the products listed above.

Since we issued AD 98-13-23, Amendment 39-10614 (63 FR 34576, June 25, 1998), a fleet survey and updated fatigue and damage tolerance analyses showed that the risk of cracks for these airplanes is higher than initially determined. The European Aviation Safety Agency (EASA), which is the Technical Agent for the Member States of the European Community, has issued EASA Airworthiness Directive 2013-0048, dated March 4, 2013 (referred to after this as the Mandatory Continuing Airworthiness Information, or “the MCAI”), to correct an unsafe condition for the specified products. The MCAI states:

During a full scale fatigue test, a crack was found at the lower corner of the assembly of the horizontal stabilizer cut-out, between Frame (FR)87 and FR89 and between Stringer (STGR)24 and STGR27, Left Hand (LH) and Right Hand (RH) sides.

This condition, if not detected and corrected, could reduce the structural integrity of the aeroplane.

DGAC France issued AD * * * to require repetitive visual and High Frequency Eddy Current (HFEC) rotating probe inspections of the affected areas and subsequent corrective action, in case of cracks.

Since that [DGAC France] AD was issued, a fleet survey and updated Fatigue and Damage Tolerance analyses have been performed to substantiate the second A300-600 Extended Service Goal (ESG2) exercise. The results of these analyses have shown that the risk of cracks for these aeroplanes is higher than initially determined and that, consequently, the thresholds and intervals must be reduced to allow timely detection of these cracks and accomplishment of an applicable corrective action.

For the reasons described above, this [EASA] AD retains the requirements of DGAC France AD * * *, which is superseded, and requires the accomplishment of these actions within the new thresholds and intervals defined in Revision 03 of Airbus Service Bulletin (SB) A300-53-6042 [dated August 30, 2012].

The initial compliance times for airplanes with an average flight time greater than 1.5 hours, depending on the inspection area, are between before 18,000 total flight cycles and 38,100 total flight hours, whichever occurs first; and before 42,500 total flight cycles or 89,000 total flight hours, whichever occurs first. The repetitive compliance times for airplanes with an average flight time above 1.5 hours, depending on the inspection area, are between intervals not to exceed 3,900 flight cycles or 8,200 flight hours, whichever occurs first; and intervals not to exceed 6,000 flight cycles or 12,700 flight hours, whichever occurs first.

The initial compliance times for airplanes with an average flight time of 1.5 hours or less, depending on the inspection area, are between before 19,900 total flight cycles and 29,800 total flight hours, whichever occurs first; and before 47,100 total flight cycles or 70,500 total flight hours, whichever occurs first. The repetitive compliance times for airplanes with an average flight time of 1.5 hours or less, depending on inspection area, are between intervals not to exceed 4,300 flight cycles or 6,400 flight hours, whichever occurs first, and intervals not to exceed 6,600 flight cycles or 9,900 flight hours, whichever occurs first.

You may examine the MCAI in the AD docket on the Internet at http://www.regulations.gov by searching for and locating it in Docket No. FAA-2014-0011.

Explanation of Change to Applicability

We have revised the applicability of this AD to identify model designations as published in the most recent type certificate data sheet for the affected models.

Relevant Service Information

Airbus has issued Mandatory Service Bulletin A300-53-6042, Revision 03, dated August 30, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain new requirements of this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve newly required repairs for this proposed AD.

Costs of Compliance

We estimate that this proposed AD would affect about 5 products of U.S. registry. We estimate the following costs to comply with this proposed AD.

Estimated Costs
Action | Labor cost | Parts cost | Cost per product | Cost on U.S. operators
Inspections [retained actions from AD 98-13-23, Amendment 39-10614 (63 FR 34576, June 25, 1998] | 268 work-hour × $85 per hour = $22,780 per inspection cycle | $0 | $22,780 per inspection cycle | $45,560 per inspection cycle (2 airplanes)
Inspections [new proposed action] | 88 work-hour × $85 per hour = $7,480 per inspection cycle | 0 | $7,480 per inspection cycle | $37,400 per inspection cycle

We estimate the following costs to do any necessary repairs that would be required based on the results of the proposed inspection. We have no way of determining the number of aircraft that might need these repairs:

On-Condition Costs
Action | Labor cost | Parts cost | Cost per product
Repair | 155 work-hours × $85 per hour = $13,175 | $0 | $13,175

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 98-13-23, Amendment 39-10614 (63 FR 34576, June 25, 1998), and adding the following new AD:

Airbus: Docket No. FAA-2014-0011; Directorate Identifier 2013-NM-046-AD.

(a) Comments Due Date

We must receive comments by March 27, 2014.

(b) Affected ADs

This AD supersedes AD 98-13-23, Amendment 39-10614 (63 FR 34576, June 25, 1998).

(c) Applicability

This AD applies to Airbus Model A300 B4-601, B4-603, B4-620, and B4-622 airplanes; Model A300 B4-605R and B4-622R airplanes; Model A300 F4-605R and F4-622R airplanes; and Model A300 C4-605R Variant F airplanes; certificated in any category; on which Airbus Modification 6146 has not been installed.

(d) Subject

Air Transport Association (ATA) of America Code 53, Fuselage.

(e) Reason

This AD was prompted by reports of cracking found at the lower corner of the horizontal stabilizer cutout longeron during a full scale fatigue test, and a determination that the risk of cracking is higher than initially determined. We are issuing this AD to prevent cracking of the lower horizontal stabilizer cutout longeron, the corner fitting, the skin strap, and the outer skin, which could result in reduced structural integrity of the horizontal-stabilizer cutout longeron.

(f) Compliance

Comply with this AD within the compliance times specified, unless already done.

(g) Retained Inspections and Corrective Actions

This paragraph restates the requirements of paragraphs (a), (b), (c), (d), and (e) of AD 98-13-23, Amendment 39-10614 (63 FR 34576, June 25, 1998), with revised service information.

(1) Prior to the accumulation of 18,000 total landings, or within 2,000 landings after July 30, 1998 (the effective date of AD 98-13-23, Amendment 39-10614 (63 FR 34576, June 25, 1998)), whichever occurs later: Perform a visual and eddy current inspection to detect cracks and/or corrosion of Areas 1 and 2 of the lower horizontal stabilizer cutout longeron, in accordance with Airbus Service Bulletin A300-53-6042, Revision 1, dated February 20, 1995; or Airbus Mandatory Service Bulletin A300-53-6042, Revision 03, dated August 30, 2012. As of the effective date of this AD, use only Airbus Mandatory Service Bulletin A300-53-6042, Revision 03, dated August 30, 2012, to do the actions required by this paragraph.

(2) At the later of the times specified in paragraphs (g)(2)(i) and (g)(2)(ii) of this AD: Perform a visual and an eddy current inspection to detect cracks and corrosion of Area 3 of the lower horizontal stabilizer cutout longeron, in accordance with Airbus Service Bulletin A300-53-6042, Revision 1, dated February 20, 1995; or Airbus Mandatory Service Bulletin A300-53-6042, Revision 03, dated August 30, 2012. As of the effective date of this AD, use only Airbus Mandatory Service Bulletin A300-53-6042, Revision 03, dated August 30, 2012, to do the actions required by this paragraph.

(i) Prior to the accumulation of 24,000 total landings, but not before the accumulation of 18,000 total landings; or

(ii) Prior to the accumulation of 2,000 landings after July 30, 1998 (the effective date of AD 98-13-23, Amendment 39-10614 (63 FR 34576, June 25, 1998)).

(3) If no cracking is detected during any inspection required by paragraph (g)(1) or (g)(2) of this AD: Before further flight, cold work and ream the vacated fastener holes, in accordance with Airbus Service Bulletin A300-53-6042, Revision 1, dated February 20, 1995; or Airbus Mandatory Service Bulletin A300-53-6042, Revision 03, dated August 30, 2012; and perform the requirements of paragraph (g)(3)(i) or (g)(3)(ii) of this AD, as applicable. As of the effective date of this AD, use only Airbus Mandatory Service Bulletin A300-53-6042, Revision 03, dated August 30, 2012, to do the actions required by this paragraph.

(i) For airplanes on which no cracking is found in Area 1 or 2: Repeat the inspections required by paragraph (g)(1) of this AD thereafter at intervals not to exceed 6,000 flight cycles.

(ii) For airplanes on which no cracking is found in Area 3: Perform the various follow-on actions in accordance with Airbus Service Bulletin A300-53-6042, Revision 1, dated February 20, 1995; or Airbus Mandatory Service Bulletin A300-53-6042, Revision 03, dated August 30, 2012. (The follow-on actions include installing a new corner fitting, installing a new longeron, and performing a cold working procedure.) After accomplishment of these follow-on actions, no further action is required by this AD. After the effective date of this AD, use only Airbus Mandatory Service Bulletin A300-53-6042, Revision 03, dated August 30, 2012, to do the actions required by this paragraph.

(4) If any cracking is detected during any inspection required by paragraph (g)(1) or (g)(2) of this AD, perform the requirements of paragraph (g)(4)(i) or (g)(4)(ii) of this AD, as applicable.

(i) If any cracking is found in Area 1 or 3 that is within the limits specified in Airbus Service Bulletin A300-53-6042, Revision 1, dated February 20, 1995; or Airbus Mandatory Service Bulletin A300-53-6042, Revision 03, dated August 30, 2012: Before further flight, repair in accordance with Airbus Service Bulletin A300-53-6042, Revision 1, dated February 20, 1995; or Airbus Mandatory Service Bulletin A300-53-6042, Revision 03, dated August 30, 2012. As of the effective date of this AD, use only Airbus Mandatory Service Bulletin A300-53-6042, Revision 03, dated August 30, 2012, to do the actions required by this paragraph.

(ii) If any cracking is found in Area 2, or if any cracking is found in any area and that cracking is beyond the limits described in Airbus Service Bulletin A300-53-6042, Revision 1, dated February 20, 1995; or Airbus Mandatory Service Bulletin A300-53-6042, Revision 03, dated August 30, 2012: Before further flight, repair using a method approved by the Manager, International Branch, ANM-116, Transport Airplane Directorate, FAA; or the European Aviation Safety Agency (EASA) (or its delegated agent, or by the Design Approval Holder (DAH) with EASA design organization approval).

(5) If any corrosion is detected during any inspection required by paragraph (g) of this AD, prior to further flight, repair the corrosion, in accordance with Airbus Service Bulletin A300-53-6042, Revision 1, dated February 20, 1995; or Airbus Mandatory Service Bulletin A300-53-6042, Revision 03, dated August 30, 2012. As of the effective date of this AD, use only Airbus Mandatory Service Bulletin A300-53-6042, Revision 03, dated August 30, 2012, to do the actions required by this paragraph.

(h) New Inspections

At the applicable times specified in paragraph 1.E., “Compliance,” of Airbus Mandatory Service Bulletin A300-53-6042, Revision 03, dated August 30, 2012, except as provided by paragraph (j)(1) and (j)(2) of this AD: Do the actions specified in paragraphs (h)(1), (h)(2), and (h)(3) of this AD, in accordance with the Accomplishment Instructions of Airbus Mandatory Service Bulletin A300-53-6042, Revision 03, dated August 30, 2012. Repeat the inspections, thereafter, at the applicable intervals specified in paragraph 1.E., “Compliance,” of Airbus Mandatory Service Bulletin A300-53-6042, Revision 03, dated August 30, 2012. Doing the initial inspections required by paragraph (h) of this AD and applicable corrective actions required by paragraph (i) of this AD terminates the requirements of paragraph (g) of this AD.

(1) Do a general visual inspection for cracking and corrosion of the lower horizontal stabilizer cut-out longeron, the corner fitting, the skin strap, and the skin between frame (FR)87 and FR89 and between stringers (STGR)24 and STGR27, left- and right-hand sides.

(2) Do a high frequency eddy current (HFEC) inspection for cracking of the flanges of the lower corner fittings and the edges of the outer skin and the edges of the longeron, the skin strap, and the skin at the run-out of the corner fitting above the last eight fasteners.

(3) Do a rotating probe inspection for cracking of the fastener holes. If no cracking is found during the rotating probe inspection, before further flight, do a cold expansion of the fastener holes, in accordance with the Accomplishment Instructions of Airbus Mandatory Service Bulletin A300-53-6042, Revision 03, dated August 30, 2012.

(i) New Corrective Actions

(1) If any corrosion is found during any inspection required by paragraph (h) of this AD, before further flight, repair, in accordance with the Accomplishment Instructions of Airbus Mandatory Service Bulletin A300-53-6042, Revision 03, dated August 30, 2012.

(2) If any cracking is found during any inspection required by paragraph (h) of this AD, before further flight, repair in accordance with the Accomplishment Instructions of Airbus Mandatory Service Bulletin A300-53-6042, Revision 03, dated August 30, 2012, except where Airbus Mandatory Service Bulletin A300-53-6042, Revision 03, dated August 30, 2012, specifies to contact Airbus, before further flight, repair using a method approved by the Manager, International Branch, ANM-116, Transport Airplane Directorate, FAA; or the European Aviation Safety Agency (EASA) (or its delegated agent, or the Design Approval Holder (DAH) with EASA design organization approval). For a repair method to be approved, the repair approval must specifically refer to this AD.

(j) Exception

(1) Where Airbus Mandatory Service Bulletin A300-53-6042, Revision 03, dated August 30, 2012, specifies a grace period of 1950 flight cycles or 4100 flight hours, this AD specifies the grace period after the effective date of this AD.

(2) Where Airbus Mandatory Service Bulletin A300-53-6042, Revision 03, dated August 30, 2012, specifies a compliance time “after receipt of this service bulletin,” this AD requires compliance within the specified compliance time after the effective date of this AD.

(k) Credit for Previous Actions

This paragraph provides credit for the corresponding actions required by paragraph (g) of this AD, if those actions were performed before the effective date of this AD using Airbus Service Bulletin A300-53-6042, Revision 01, dated February 20, 1995; or Airbus Service Bulletin A300-53-6042, Revision 02, dated April 28, 1998; which are not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved for AD 98-13-23, Amendment 39-10614 (63 FR 34576, June 25, 1998), are approved as AMOCs for the corresponding requirements of this AD.

(2) Airworthy Product: For any requirement in this AD to obtain corrective actions from a manufacturer, use these actions if they are FAA approved. Corrective actions are considered FAA-approved if they were approved by the State of Design Authority (or its delegated agent, or the Design Approval Holder with a State of Design Authority's design organization approval, as applicable). You are required to ensure the product is airworthy before it is returned to service.

(m) Related Information

(1) Refer to Mandatory Continuing Airworthiness Information (MCAI) European Aviation Safety Agency (EASA) Airworthiness Directive 2013-0048, dated March 4, 2013, for related information. This MCAI may be found in the AD docket on the Internet at http://www.regulations.gov by searching for and locating it in Docket No. FAA-2014-0011.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on January 27, 2014.
Jeffrey E. Duven,
Manager, Transport Airplane Directorate, Aircraft Certification Service.

[FR Doc. 2014-02711 Filed 2-7-14; 8:45 am]

BILLING CODE 4910-13-P